POSTAL REGULATORY COMMISSION

[Docket Nos. MC2025-431 and K2025-428; MC2025-432 and K2025-429; MC2025-433 and K2025-430; MC2025-434 and K2025-431; MC2025-435 and K2025-432; MC2025-436 and K2025-433; MC2025-437 and K2025-434; MC2025-438 and K2025-435; MC2025-439 and K2025-436; MC2025-440 and K2025-437; MC2025-441 and K2025-438; MC2025-442 and K2025-439; MC2025-443 and K2025-440; MC2025-444 and K2025-441; MC2025-445 and K2025-442; MC2025-456 and K2025-443; MC2025-447 and K2025-444; MC2025-448 and K2025-445; MC2025-449 and K2025-446; MC2025-450 and K2025-447; MC2025-452 and K2025-449; MC2025-453 and K2025-450; MC2025-454 and K2025-451; MC2025-455 and K2025-452; MC2025-456 and K2025-453; MC2025-457 and K2025-454; MC2025-458 and K2025-455]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: November 27, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-431 and K2025-428; Filing Title: USPS Request to Add Priority Mail & USPS Ground Advantage Contract 467 to the Competitive Product List and Notice of Filing Materials Under Seal; Filing Acceptance Date: November 19, 2024; Filing Authority: 39 U.S.C. 3642, 39 CFR 3035.105, and 39 CFR 3041.310; Public Representative: Elsie Lee-Robbins; Comments Due: November 27, 2024.

2. Docket No(s).: MC2025-432 and K2025-429; Filing Title: USPS Request to Add Priority Mail Express, Priority Mail & USPS Ground Advantage Contract 744 to the Competitive Product List and Notice of Filing Materials Under Seal; Filing Acceptance Date: November 19, 2024; Filing Authority: 39 U.S.C. 3642, 39 CFR 3035.105, and 39 CFR 3041.310; Public Representative: Elsie Lee-Robbins; Comments Due: November 27, 2024.

3. Docket No(s).: MC2025-433 and K2025-430; Filing Title: USPS Request to Add Priority Mail Express, Priority Mail & USPS Ground Advantage Contract 745 to the Competitive Product List and Notice of Filing Materials Under Seal; Filing Acceptance Date: November 19, 2024; Filing Authority: 39 U.S.C. 3642, 39 CFR 3035.105, and 39 CFR 3041.310; Public Representative: Jennaca Upperman; Comments Due: November 27, 2024.

4. Docket No(s).: MC2025-434 and K2025-431; Filing Title: USPS Request to Add Priority Mail & USPS Ground Advantage Contract 468 to the Competitive Product List and Notice of Filing Materials Under Seal; Filing Acceptance Date: November 19, 2024; Filing Authority: 39 U.S.C. 3642, 39 CFR 3035.105, and 39 CFR 3041.310; Public Representative: Jennaca Upperman; Comments Due: November 27, 2024.

5. Docket No(s).: MC2025-435 and K2025-432; Filing Title: USPS Request to Add Priority Mail Express, Priority Mail & USPS Ground Advantage Contract 746 to the Competitive Product List and Notice of Filing Materials Under Seal; Filing Acceptance Date: November 19, 2024; Filing Authority: 39 U.S.C. 3642, 39 CFR 3035.105, and 39 CFR 3041.310; Public Representative: Maxine Bradley; Comments Due: November 27, 2024.

6. Docket No(s).: MC2025-436 and K2025-433; Filing Title: USPS Request to Add Priority Mail Express, Priority Mail & USPS Ground Advantage Contract 747 to the Competitive Product List and Notice of Filing Materials Under Seal; Filing Acceptance Date: November 19, 2024; Filing Authority: 39 U.S.C. 3642, 39 CFR 3035.105, and 39 CFR 3041.310; Public Representative: Elsie Lee-Robbins; Comments Due: November 27, 2024.

7. Docket No(s).: MC2025-437 and K2025-434; Filing Title: USPS Request to Add Priority Mail Express, Priority Mail & USPS Ground Advantage Contract 748 to the Competitive Product List and Notice of Filing Materials Under Seal; Filing Acceptance Date: November 19, 2024; Filing Authority: 39 U.S.C. 3642, 39 CFR 3035.105, and 39 CFR 3041.310; Public Representative: Maxine Bradley; Comments Due: November 27, 2024.

8. Docket No(s).: MC2025-438 and K2025-435; Filing Title: USPS Request to Add Priority Mail Express, Priority Mail & USPS Ground Advantage Contract 749 to the Competitive Product List and Notice of Filing Materials Under Seal; Filing Acceptance Date: November 19, 2024; Filing Authority: 39 U.S.C. 3642, 39 CFR 3035.105, and 39 CFR 3041.310; Public Representative: Christopher Mohr; Comments Due: November 27, 2024.

9. Docket No(s).: MC2025-439 and K2025-436; Filing Title: USPS Request to Add Priority Mail Express, Priority Mail & USPS Ground Advantage Contract 750 to the Competitive Product List and Notice of Filing Materials Under Seal; Filing Acceptance Date: November 19, 2024; Filing Authority: 39 U.S.C. 3642, 39 CFR 3035.105, and 39 CFR 3041.310; Public Representative: Christopher Mohr; Comments Due: November 27, 2024.

10. Docket No(s).: MC2025-440 and K2025-437; Filing Title: USPS Request to Add Priority Mail Express, Priority Mail & USPS Ground Advantage Contract 751 to the Competitive Product List and Notice of Filing Materials Under Seal; Filing Acceptance Date: November 19, 2024; Filing Authority: 39 U.S.C. 3642, 39 CFR 3035.105, and 39 CFR 3041.310; Public Representative: Maxine Bradley; Comments Due: November 27, 2024.

11. Docket No(s).: MC2025-441 and K2025-438; Filing Title: USPS Request to Add Priority Mail Express, Priority Mail & USPS Ground Advantage Contract 752 to the Competitive Product List and Notice of Filing Materials Under Seal; Filing Acceptance Date: November 19, 2024; Filing Authority: 39 U.S.C. 3642, 39 CFR 3035.105, and 39 CFR 3041.310; Public Representative: Jana Slovinska; Comments Due: November 27, 2024.

12. Docket No(s).: MC2025-442 and K2025-439; Filing Title: USPS Request to Add Priority Mail Express, Priority Mail & USPS Ground Advantage Contract 753 to the Competitive Product List and Notice of Filing Materials Under Seal; Filing Acceptance Date: November 19, 2024; Filing Authority: 39 U.S.C. 3642, 39 CFR 3035.105, and 39 CFR 3041.310; Public Representative: Jana Slovinska; Comments Due: November 27, 2024.

13. Docket No(s).: MC2025-443 and K2025-440; Filing Title: USPS Request to Add Priority Mail Express, Priority Mail & USPS Ground Advantage Contract 754 to the Competitive Product List and Notice of Filing Materials Under Seal; Filing Acceptance Date: November 19, 2024; Filing Authority: 39 U.S.C. 3642, 39 CFR 3035.105, and 39 CFR 3041.310; Public Representative: Maxine Bradley; Comments Due: November 27, 2024.

14. Docket No(s).: MC2025-444 and K2025-441; Filing Title: USPS Request to Add Priority Mail & USPS Ground Advantage Contract 469 to the Competitive Product List and Notice of Filing Materials Under Seal; Filing Acceptance Date: November 19, 2024; Filing Authority: 39 U.S.C. 3642, 39 CFR 3035.105, and 39 CFR 3041.310; Public Representative: Kenneth Moeller; Comments Due: November 27, 2024.

15. Docket No(s).: MC2025-445 and K2025-442; Filing Title: USPS Request to Add Priority Mail Express, Priority Mail & USPS Ground Advantage Contract 755 to the Competitive Product List and Notice of Filing Materials Under Seal; Filing Acceptance Date: November 19, 2024; Filing Authority: 39 U.S.C. 3642, 39 CFR 3035.105, and 39 CFR 3041.310; Public Representative: Maxine Bradley; Comments Due: November 27, 2024.

16. Docket No(s).: MC2025-446 and K2025-443; Filing Title: USPS Request to Add Priority Mail & USPS Ground Advantage Contract 470 to the Competitive Product List and Notice of Filing Materials Under Seal; Filing Acceptance Date: November 19, 2024; Filing Authority: 39 U.S.C. 3642, 39 CFR 3035.105, and 39 CFR 3041.310; Public Representative: Kenneth Moeller; Comments Due: November 27, 2024.

17. Docket No(s).: MC2025-447 and K2025-444; Filing Title: USPS Request to Add Priority Mail Express, Priority Mail & USPS Ground Advantage Contract 756 to the Competitive Product List and Notice of Filing Materials Under Seal; Filing Acceptance Date: November 19, 2024; Filing Authority: 39 U.S.C. 3642, 39 CFR 3035.105, and 39 CFR 3041.310; Public Representative: Christopher Mohr; Comments Due: November 27, 2024.

18. Docket No(s).: MC2025-448 and K2025-445; Filing Title: USPS Request to Add Priority Mail Express, Priority Mail & USPS Ground Advantage Contract 757 to the Competitive Product List and Notice of Filing Materials Under Seal; Filing Acceptance Date: November 19, 2024; Filing Authority: 39 U.S.C. 3642, 39 CFR 3035.105, and 39 CFR 3041.310; Public Representative: Christopher Mohr; Comments Due: November 27, 2024.

19. Docket No(s).: MC2025-449 and K2025-446; Filing Title: USPS Request to Add Priority Mail Express, Priority Mail & USPS Ground Advantage Contract 758 to the Competitive Product List and Notice of Filing Materials Under Seal; Filing Acceptance Date: November 19, 2024; Filing Authority: 39 U.S.C. 3642, 39 CFR 3035.105, and 39 CFR 3041.310; Public Representative: Christopher Mohr; Comments Due: November 27, 2024.

20. Docket No(s).: MC2025-450 and K2025-447; Filing Title: USPS Request to Add Priority Mail Express, Priority Mail & USPS Ground Advantage Contract 759 to the Competitive Product List and Notice of Filing Materials Under Seal; Filing Acceptance Date: November 19, 2024; Filing Authority: 39 U.S.C. 3642, 39 CFR 3035.105, and 39 CFR 3041.310; Public Representative: Gregory Stanton; Comments Due: November 27, 2024.

21. Docket No(s).: MC2025-452 and K2025-449; Filing Title: USPS Request to Add Priority Mail Express, Priority Mail & USPS Ground Advantage Contract 761 to the Competitive Product List and Notice of Filing Materials Under Seal; Filing Acceptance Date: November 19, 2024; Filing Authority: 39 U.S.C. 3642, 39 CFR 3035.105, and 39 CFR 3041.310; Public Representative: Gregory Stanton; Comments Due: November 27, 2024.

22. Docket No(s).: MC2025-453 and K2025-450; Filing Title: USPS Request to Add Priority Mail Express, Priority Mail & USPS Ground Advantage Contract 762 to the Competitive Product List and Notice of Filing Materials Under Seal; Filing Acceptance Date: November 19, 2024; Filing Authority: 39 U.S.C. 3642, 39 CFR 3035.105, and 39 CFR 3041.310; Public Representative: Katalin Clendenin; Comments Due: November 27, 2024.

23. Docket No(s).: MC2025-454 and K2025-451; Filing Title: USPS Request to Add Priority Mail & USPS Ground Advantage Contract 471 to the Competitive Product List and Notice of Filing Materials Under Seal; Filing Acceptance Date: November 19, 2024; Filing Authority: 39 U.S.C. 3642, 39 CFR 3035.105, and 39 CFR 3041.310; Public Representative: Kenneth Moeller; Comments Due: November 27, 2024.

24. Docket No(s).: MC2025-455 and K2025-452; Filing Title: USPS Request to Add Priority Mail Express, Priority Mail & USPS Ground Advantage Contract 763 to the Competitive Product List and Notice of Filing Materials Under Seal; Filing Acceptance Date: November 19, 2024; Filing Authority: 39 U.S.C. 3642, 39 CFR 3035.105, and 39 CFR 3041.310; Public Representative: Almaroof Agoro; Comments Due: November 27, 2024.

25. Docket No(s).: MC2025-456 and K2025-453; Filing Title: USPS Request to Add Priority Mail Express, Priority Mail & USPS Ground Advantage Contract 764 to the Competitive Product List and Notice of Filing Materials Under Seal; Filing Acceptance Date: November 19, 2024; Filing Authority: 39 U.S.C. 3642, 39 CFR 3035.105, and 39 CFR 3041.310; Public Representative: Jennaca Upperman; Comments Due: November 27, 2024.

26. Docket No(s).: MC2025-457 and K2025-454; Filing Title: USPS Request to Add Priority Mail & USPS Ground Advantage Contract 472 to the Competitive Product List and Notice of Filing Materials Under Seal; Filing Acceptance Date: November 19, 2024; Filing Authority: 39 U.S.C. 3642, 39 CFR 3035.105, and 39 CFR 3041.310; Public Representative: Katalin Clendenin; Comments Due: November 27, 2024.

27. Docket No(s).: MC2025-458 and K2025-455; Filing Title: USPS Request to Add Priority Mail Express, Priority Mail & USPS Ground Advantage Contract 765 to the Competitive Product List and Notice of Filing Materials Under Seal; Filing Acceptance Date: November 19, 2024; Filing Authority: 39 U.S.C. 3642, 39 CFR 3035.105, and 39 CFR 3041.310; Public Representative: Jennaca Upperman; Comments Due: November 27, 2024.

III. Summary Proceeding(s)

None. See Section II for public proceedings.

This Notice will be published in the Federal Register.

Erica A. Barker,
Secretary.

[FR Doc. 2024-27597 Filed 11-25-24; 8:45 am]

BILLING CODE 7710-FW-P